FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number : 17893N.

Name: All World Logistics, Inc. dba Internet Shipping Line.

Address: 969 Newark Turnpike, Kearny, NJ 07032.

Date Revoked: November 14, 2003.

Reason: Failed to maintain a valid bond.

License Number: 3945F.

Name: Alumar, Incorporated.

Address: 4809 N. Armenia Avenue, Suite 105, Tampa, FL 33603.

Date Revoked: October 25, 2003.

Reason: Failed to maintain a valid bond.

License Number: 14617N.

Name: Asiana Transport Inc.

Address: 182-11 150th Road, 2nd Floor, Jamaica, NY 11413.

Date Revoked: October 9, 2003.

Reason: Failed to maintain a valid bond.

License Number: 16363N.

Name: Capitol Transportation, Inc.

Address: 2000 Avenue, J.F. Kennedy, P.O. Box 363008, San Juan, PR 00936.

Date Revoked: April 23, 2003.

Reason: Failed to maintain a valid bond.

License Number: 17953N.

Name: Caribbean Consolidator Shipping Services, Inc.

Address: 1521 NW 82nd Avenue, Miami, FL 33126

Date Revoked: November 3, 2003.

Reason: Failed to maintain a valid bond.

License Number: 17656NF.

Name: Coltrans (USA), Inc.

Address: 10925 NW 27th Street, Suite 102, Miami, FL 33172.

Date Revoked: October 31, 2003.

Reason: Failed to maintain valid bonds.

License Number: 16859NF.

Name: Global Cargo Jamaica Shipping, Inc.

Address: 6151 NW 72nd Avenue, Miami, FL 33166.

Date Revoked: November 2, 2003.

Reason: Failed to maintain valid bonds.

License Number: 2638F.

Name: Intercorp Forwarders, Ltd.

Address: 3534 84th Street, Unit B-7, Jackson Heights, NY 11372.

Date Revoked: October 30, 2003.

Reason: Failed to maintain a valid bond.

License Number: 17232N.

Name: International Cargo Consolidators, Corp.

Address: 10049 NW 89th Avenue, Bay #3, Medley, FL 33178.

Date Revoked: October 15, 2003.

Reason: Failed to maintain a valid bond.

License Number: 3110F.

Name: International Freight Transport, Inc.

Address: 88 South Avenue, Fanwood, NJ 07023.

Date Revoked: November 6, 2003.

Reason: Failed to maintain a valid bond.

License Number: 14623N.

Name: NRS International Transport Limited.

Address: Roycraft House, 15 Linton Road, Barking, Essex IG11 8JB, United Kingdom.

Date Revoked: October 8, 2003.

Reason: Failed to maintain a valid bond.

License Number: 12757N.

Name: Ocean Conco Line, Inc.

Address: 39 Broadway, Suite 750, New York, NY 10004.

Date Revoked: October 8 2003.

Reason: Failed to maintain a valid bond.

License Number: 18364N.

Name: Polo Logistics, Inc.

Address: 267 5th Avenue, Suite B-1, New York, NY 10016.

Date Revoked: October 30, 2003.

Reason: Failed to maintain a valid bond.

License Number: 14125N.

Name: Transtainer Corp.

Address: 8100 NW 29th Street, Suite 2A, Miami, FL 33122.

Date Revoked: November 6, 2003.

Reason: Failed to maintain a valid bond.

Sandra L. Kusumoto,
Director, Bureau of Consumer Complaints and Licensing.

[FR Doc. 03-29611 Filed 11-26-03; 8:45 am]

BILLING CODE 6730-01-P